DEPARTMENT OF ENERGY

Federal Energy Regulatory Commission

Combined Notice of Filings #1

Take notice that the Commission received the following exempt wholesale generator filings:

Docket Numbers: EG20-56-000.

Applicants: Crooked Run Solar, LLC.

Description: Notice of Self-Certification of Exempt Wholesale Generator Status of Crooked Run Solar, LLC.

Filed Date: 12/4/19.

Accession Number: 20191204-5119.

Comments Due: 5 p.m. ET 12/26/19.

Docket Numbers: EG20-57-000.

Applicants: Cubico Crooked Run Lessee, LLC.

Description: Notice of Self-Certification of Exempt Wholesale Generator Status of Cubico Crooked Run Lessee, LLC.

Filed Date: 12/4/19.

Accession Number: 20191204-5137.

Comments Due: 5 p.m. ET 12/26/19.

Take notice that the Commission received the following electric rate filings:

Docket Numbers: ER10-2768-003.

Applicants: Empire Generating Co, LLC.

Description: Notice of Non-Material Change in Status of Empire Generating Co, LLC.

Filed Date: 12/4/19.

Accession Number: 20191204-5136.

Comments Due: 5 p.m. ET 12/26/19.

Docket Numbers: ER20-57-001; ER20-339-001; ER20-58-001; ER19-115-001; ER20-59-001; ER20-27-001; ER16-2019-002; ER17-1607-001; ER17-1608-001; ER17-318-001; ER16-2520-001; ER19-8-001; ER19-119-001; ER19-2476-001; ER18-97-001; ER20-422-001.

Applicants: GA Solar 3, LLC, Twiggs County Solar, LLC, FL Solar 4, LLC, FL Solar 5, LLC, AZ Solar 1, LLC, Wright Solar Park LLC, Five Points Solar Park LLC, Sunray Energy 2, LLC, Sunray Energy 3 LLC, Three Peaks Power, LLC, Grand View PV Solar Two LLC, Sweetwater Solar, LLC, Techren Solar I LLC, Techren Solar II LLC, MS Solar 3, LLC, FL Solar 1, LLC.

Description: Notice of Non-Material Change in Status of GA Solar 3, LLC, et al.

Filed Date: 12/4/19.

Accession Number: 20191204-5151.

Comments Due: 5 p.m. ET 12/26/19.

Docket Numbers: ER20-509-000.

Applicants: PJM Interconnection, L.L.C.

Description: § 205(d) Rate Filing: ISA and ICSA SA Nos. 5245 and 5250; Queue No. AB2-067/AC1-044/AD2-189 to be effective 5/13/2019.

Filed Date: 12/3/19.

Accession Number: 20191203-5184.

Comments Due: 5 p.m. ET 12/24/19.

Docket Numbers: ER20-510-000.

Applicants: Midcontinent Independent System Operator, Inc.

Description: § 205(d) Rate Filing: 2019-12-04_SA 3378 NIPSCO-Poplar Wind Project GIA (J883) to be effective 11/19/2019.

Filed Date: 12/4/19.

Accession Number: 20191204-5000.

Comments Due: 5 p.m. ET 12/26/19.

Docket Numbers: ER20-511-000.

Applicants: Wilderness Line Holdings, LLC.

Description: Baseline eTariff Filing: Open Access Transmission Tariff Baseline Filing to be effective 12/5/2019.

Filed Date: 12/4/19.

Accession Number: 20191204-5099.

Comments Due: 5 p.m. ET 12/26/19.

Docket Numbers: ER20-512-000.

Applicants: Click Energy LLC.

Description: Baseline eTariff Filing: Click Energy MBR Application Filing to be effective 1/3/2020.

Filed Date: 12/4/19.

Accession Number: 20191204-5101.

Comments Due: 5 p.m. ET 12/26/19.

Docket Numbers: ER20-513-000.

Applicants: Southern California Edison Company.

Description: § 205(d) Rate Filing: LGIA Aurora Solar LLC, Camino Solar SA No. 237 to be effective 12/5/2019.

Filed Date: 12/4/19.

Accession Number: 20191204-5113.

Comments Due: 5 p.m. ET 12/26/19.

Docket Numbers: ER20-514-000.

Applicants: Midcontinent Independent System Operator, Inc., Otter Tail Power Company.

Description: § 205(d) Rate Filing: 2019-12-04_SA 3384 OTP-Dakota Range III FSA (J488) Hankinson-Wahpeton to be effective 2/3/2020.

Filed Date: 12/4/19.

Accession Number: 20191204-5150.

Comments Due: 5 p.m. ET 12/26/19.

Docket Numbers: ER20-515-000.

Applicants: Midcontinent Independent System Operator, Inc., Otter Tail Power Company.

Description: § 205(d) Rate Filing: 2019-12-04_SA 3385 OTP-Deuel Harvest FSA (J526) Hankinson-Wahpeton to be effective 2/3/2020.

Filed Date: 12/4/19.

Accession Number: 20191204-5152.

Comments Due: 5 p.m. ET 12/26/19.

Take notice that the Commission received the following public utility holding company filings:

Docket Numbers: PH20-4-000.

Applicants: Unison Energy, LLC, AIM Universal Holdings, LLC, Hunt Companies, Inc.

Description: Unison Energy, LLC, et al. submits FERC-65A Notice of Change in Fact to Exemption Notification.

Filed Date: 12/3/19.

Accession Number: 20191203-5264.

Comments Due: 5 p.m. ET 12/24/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 4, 2019.
Nathaniel J. Davis, Sr.,
Deputy Secretary.

[FR Doc. 2019-26524 Filed 12-9-19; 8:45 am]

BILLING CODE 6717-01-P